DEPARTMENT OF THE INTERIOR

Bureau of Land Management

[LLNMA02000 L16100000.XH0000]

Notice of Availability of Record of Decision for the Socorro Field Office Resource Management Plan/Environmental Impact Statement, New Mexico

AGENCY: Bureau of Land Management, Interior.

ACTION: Notice of Availability.

SUMMARY: The Bureau of Land Management (BLM) announces the availability of the Record of Decision (ROD)/Approved Resource Management Plan (RMP) for the Socorro Field Office located in Socorro and Catron Counties, New Mexico. The State Director signed the ROD on August 20, 2010, which constitutes the final decision of the BLM and makes the Approved RMP effective immediately.

ADDRESSES: Copies of the ROD/Approved RMP are available upon request from the Field Manager, Socorro Field Office, Bureau of Land Management, 901 S. Highway 85, Socorro, New Mexico 87801 or via the Internet at http://www.blm.gov/nm. Copies of the ROD/Approved RMP are also available for public inspection at the Socorro Public Library located at 401 Park Street, Socorro, New Mexico.

FOR FURTHER INFORMATION CONTACT: For further information, contact Kevin Carson, Outdoor Recreation Planner, telephone 575-838-1280; address Socorro Field Office, Bureau of Land Management, 901 S. Highway 85, Socorro, New Mexico 87801; e-mail Kevin_I_Carson@nm.blm.gov.

SUPPLEMENTARY INFORMATION: The Approved RMP provides direction for the long-term management of 1.5 million surface acres of public land and 6 million acres of Federal mineral estate public land within Socorro and Catron Counties and revises the 1989 Socorro RMP. Collaborative planning was used throughout the development of the RMP, which included public meetings, mailings, and other outreach activities. Catron County and the Pueblo of Zuni were cooperating agencies.

Six issues are addressed in the Approved RMP. The issues include:

(1) Special designations, such as Areas of Critical Environmental Concern;

(2) Improving soil and vegetation conditions at the watershed level;

(3) Fluid and solid mineral development;

(4) Travel and transportation (e.g., off-highway vehicle use, mountain biking, hiking, and horseback riding);

(5) Land-use allocations and initiatives (e.g., land tenure, right-of- way corridors, and areas where public and private lands abut one another); and

(6) Regional heritage/tourism opportunities on the BLM-managed public land. Management actions in the Approved RMP consequently address those issues by program and resource area, including special designations, soil and water resources; vegetation and land health; wildlife, riparian and special status species; recreation, cultural, visual, paleontological, and recreation resources; lands and realty; nonrenewable and renewable energy development; wilderness; and transportation and travel management.

On April 16, 2007, the BLM New Mexico released the Draft RMP/EIS for a 90-day public comment period concurrent with a Notice of Availability, which was published in the Federal Register. The BLM New Mexico conducted public hearings on the Draft RMP/EIS and analyzed public comments received. Minor modifications and technical changes were made to the Preferred Alternative, which was carried forward as the Proposed Alternative (Alternative B) in the Proposed RMP/Final EIS.

The BLM New Mexico released the Proposed RMP/Final EIS for a 60-day Governor's Consistency Review and 30-day protest period on December 5, 2008. The BLM New Mexico modified one decision in the Approved RMP as a result of the Governor's Consistency Review. The Governor's letter stated that the BLM's land tenure and fluid mineral decisions regarding a state-designated conservation easement at Horse Springs Ranch were inconsistent with the purposes of the Conservation Easement (CE), which is to protect wildlife habitat. In light of the Governor's letter, the State Director modified Alternative B by selecting the lands and realty decision in the No Action Alternative, which will retain the BLM scattered parcels (3,856 acres) within the CE boundary. This decision meets the objectives of the State's CE. With regard to the Governor's concerns about the potential impacts that fluid mineral leasing decisions may have within the area of the State's Horse Springs Conservation Easement (“CE”), the State Director maintains the discretion to decline to issue leases on a case-by-case basis. In recognition of the particular resource concerns of this CE, the State Director will carefully exercise this discretion for any lease proposal in the surface area covered by the CE. After the issuance of this ROD, the BLM will undertake a plan amendment process to consider closing the area covered by the CE to fluid mineral leasing.

The BLM received three protests on the Proposed RMP/Final EIS. The protests raised issues regarding rangeland resources, lands with wilderness characteristics, and the Continental Divide National Scenic Trail (Trail). As a result of the protests, minor editorial modifications and technical clarifications were made in the ROD and in the Approved RMP.

The first modification concerns lands with wilderness characteristics. After review of the wilderness protest, an error in the original wilderness inventory was identified in one small area within a unit the protestor had proposed as having wilderness characteristics. Approximately 600 acres of BLM public land was found to contain wilderness characteristics because they adjoin the Chupadera Wilderness, which the U.S. Fish and Wildlife Service manages. Therefore, the BLM will select Alternative C for this area, which has a higher level of protection through a Lands and Realty decision. The BLM will issue this ROD and subsequently initiate a Resource Management Plan Amendment (RMPA) and supporting NEPA analysis to further address this area's wilderness characteristics. The RMPA process will include opportunities for public participation. The second modification concerns the Trail and future opportunities for trail routing. The decision reflects a map revision in the final RMP by adopting portions of Alternative C and the No Action Alternative, lands suitable for disposal in the Proposed RMP/Final EIS. This modified decision will provide more options for the future protection of the Trail.

Following modification of the aforementioned decisions and review of the protests, it was determined that the Socorro Field Manager followed all applicable procedures, laws, regulations, and policies, and considered all relevant resource factors, as well as public input in developing the Socorro RMP. Therefore, the protests were dismissed.

Decisions identifying routes of travel within designated areas for motorized vehicles are implementation decisions, and are appealable under 43 CFR part 4. These decisions are contained in Appendix J of the Approved RMP. Any party adversely affected by the proposed route identifications may appeal within 30 days of publication of this Notice of Availability pursuant to 43 CFR, part 4, subpart E. The appeal should state the specific route(s), as identified in Appendix J of the Approved RMP, on which the decision is being appealed. The appeal must be filed with the Socorro Field Office Manager at the above listed address. Please consult the appropriate regulations (43 CFR, part 4, subpart E) for further appeal requirements.

Authority: 40 CFR 1506.6(b)(2).

Jesse Juen,
Associate State Director.

[FR Doc. 2010-22432 Filed 9-9-10; 8:45 am]

BILLING CODE 4310-MW-P